DEPARTMENT OF ENERGY

Federal Energy Regulatory Commission

[Docket No. RP00-248-000]

Transcontinental Gas Pipe Line Corporation; Notice of Tariff Filing

April 18, 2000.

Take notice that on April 13, 2000 Transcontinental Gas Pipe Line Corporation (Transco) tendered for filing to become part of its FERC Gas Tariff, Third Revised Volume No. 1, the following tariff sheets:

Effective February 1, 2000

First Revised Fifteenth Revised Sheet No. 27

First Revised Thirty-first Revised Sheet No. 28A

Effective April 1, 2000

Substitute Seventeenth Revised Sheet No. 27

Substitute Thirty-second Revised Sheet No. 28A

Transco states that the purpose of the instant filing is to track rate changes attributable to transportation service purchased from CNG Transmission Corporation (CNG) under its Rate Schedule GSS the costs of which are included in the rates and charges payable under Transco's Rate Schedules GSS and LSS.

Transco states that the filing is being made pursuant to tracking provisions under Section 3 of Transco's Rate Schedule GSS and Section 4 of the Transco's Rate Schedule LSS.

Transco states that included in Appendix B attached to the filing are the explanations and details regarding the computation of the revised Rate Schedule GSS and LSS rate changes.

Transco states that copies of the filing are being mailed to each of its GSS and LSS customers and interested State Commissions.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-10108 Filed 4-21-00; 8:45 am]

BILLING CODE 6717-01-M